DEPARTMENT OF COMMERCE

International Trade Administration

Request for Comments and Notice of Roundtable on Energy, Information and Communication Technology, and Infrastructure in the Indo-Pacific Region

AGENCY: Global Markets, International Trade Administration, U.S. Department of Commerce.

ACTION: Request for public comments and notice of a roundtable discussion on energy, information and communication technology (ICT), and infrastructure in the Indo-Pacific region.

SUMMARY: As part of the commitment to a free and open Indo-Pacific, the Global Markets unit of the International Trade Administration of the Department of Commerce (GM) seeks individual comments from industry on government programs to inform the catalyzation of U.S. private sector participation in commercial opportunities in the Indo-Pacific region in energy, ICT and infrastructure. Through this notice, GM announces a request for written public comments and announces a roundtable to facilitate a discussion with industry representatives and U.S. government staff. This notice serves as an initial step in improving GM's understanding of private sector interests and programmatic and policy needs in energy, ICT, and infrastructure sectors in the Indo-Pacific region. This notice further sets forth topics for discussion and comment.

DATES:

Event: The roundtable will be held on December 12, 2018, from 9:00 a.m. to 12:00 p.m., Eastern Standard Time.

Written Comments: To be ensured of consideration, written public comments must be received on or before January 4, 2019. Comments should not include any business confidential information.

Event Registration: GM will evaluate registrations based on the submitted information (see below) and inform applicants of selection decisions, which will be made on a rolling basis until 15 participants have been selected for each breakout session.

ADDRESSES:

Event: The roundtable will be held at the Department of Commerce, Room 1414, 1401 Constitution Ave. NW, Washington, DC 20230.

Comments: Written comments should be sent by electronic mail addressed to IndoPacificOutreach@trade.gov. Comments may also be submitted by mail addressed to: Deputy Assistant Secretary for Asia, International Trade Administration, U.S. Department of Commerce, 1401 Constitution Ave. NW, Room 2846, Washington, DC. Although comments may be submitted by mail, the GM prefers to receive comments via the internet.

For alternatives to online or mail submissions, please contact Stephanie Smedile, Indo-Pacific Commercial Coordinator, GM, at (202) 482-0333.

FOR FURTHER INFORMATION CONTACT: IndoPacificOutreach@trade.gov or Stephanie Smedile, Indo-Pacific Commercial Coordinator, GM, at (202) 482-0333

SUPPLEMENTARY INFORMATION: On July 30, 2018 the Trump Administration announced new economic initiatives in the Indo-Pacific region to advance a free and open Indo-Pacific region (See, https://www.whitehouse.gov/briefings-statements/president-donald-j-trumps-administration-advancing-free-open-indo-pacific/). This request for comment and event notification seeks public comment on priorities and strategies to enhance commercial engagement in each of the three initiatives announced. The initiatives and topics for public comment are as follows:

(1) Digital Connectivity and Cybersecurity Partnership (DCCP)—a new global initiative to promote access to an open, interoperable, reliable, and secure internet, with an initial focus on the Indo-Pacific region. Through this program, the United States will support communications infrastructure development through public-private partnerships, promote regulatory and policy reforms, promote exports of U.S. information and communications technology (ICT) goods and services, and build the cybersecurity capacity of our partners to address shared threats.

(2) Infrastructure Transaction and Assistance Network (ITAN)—The ITAN will prioritize support for strategically important infrastructure and catalyze opportunities for U.S. business; establish a new Indo-Pacific Transaction Advisory Fund to provide independent legal support for negotiations; and coordinate capacity-building programs to improve partner countries' project evaluation processes, regulatory and procurement environments, and project preparation and financing capabilities.

(3) Enhancing Development and Growth through Energy, or Asia EDGE, is a U.S. whole of government effort to grow sustainable and secure energy markets throughout the Indo-Pacific. Asia EDGE seeks to strengthen energy security, increase energy diversification and trade, and expand energy access across the Indo-Pacific.

The Department seeks input at the December 12th roundtable on the following topics:

• What are the principal U.S. and/or foreign policy and regulatory barriers to growing sales and exports to the Indo-Pacific region? How would you prioritize these barriers for USG engagement?

• What are the principal barriers (U.S. and/or foreign) to investment in infrastructure (ICT networks, energy, transportation, other) in countries in the Indo-Pacific?

• Have you worked with USG agencies—such as State, Commerce, USTDA, EXIM, OPIC, USAID—in doing business in the Indo-Pacific? What is your assessment of the strengths and weaknesses of the U.S. government tools to promote U.S. businesses in this sector?

• What proactive solutions or actions could the U.S. government pursue that would have an impact on catalyzing U.S. private sector participation in commercial opportunities in the Indo-Pacific region?

Event: The December 12 roundtable hosted by the Deputy Assistant Secretary for Asia will provide an overview of the President's vision for the Indo-Pacific region and will include three break-out sessions—one for each initiative—during which participants will provide insights and feedback related to the energy, ICT, and infrastructure sectors in the Indo-Pacific region. Due to limited space, the event is closed to press and observers. Industry participation is limited to 15 qualifying industry representatives per break-out session (energy, ICT, and infrastructure).

Selection

To attend, participants should submit the below information to IndoPacificOutreach@trade.gov by December 5, 2018. GM will evaluate registrations based on the submitted information on a rolling basis until 15 participants have been selected for each break-out session and inform applicants of selection decisions.

Applicants are encouraged to send representatives at a sufficiently senior level to be knowledgeable about their organization's capabilities, interests and challenges in the Indo-Pacific region. Please see the following hyperlink for a definition of the Indo-Pacific region: http://www.pacom.mil/About-USINDOPACOM/USPACOM-Area-of-Responsibility/.

Registrations should include the following information in their registration email:

• Name of attendee and short bio.

• Organization and brief organization description.

• The initiative discussion in which the registrant prefers to participate (DCCP, ITAN, or Asia EDGE). Registrants cannot register for all three as the break-outs happen concurrently. Registrants may indicate a second choice if the preferred choice is filled.

• A statement self-certifying how the organization meets each of the following criteria:

1. Is not majority owned or controlled by a foreign government entity (or foreign government entities).

2. Its existing products or services are either produced in the United States, or, if not, marketed under the name of a U.S. firm and have demonstrable U.S. content as a percentage of the value of the finished product or service AND/OR it is a major investor in projects in the Indo-Pacific in which companies with such products may compete.

3. It has already exported from the United States to or invested in the Indo-Pacific region.

4. In the case of a trade association, academic or research institution, the applicant will only be representing companies during the Roundtable that satisfy each of the criteria above.

Selection will be based on the following criteria:

• Suitability of the company's (or in the case of another organization, represented companies' or constituents') existing products or services to energy, ICT, and infrastructure commercial opportunities in the Indo-Pacific.

• Suitability of the company's (or in the case of another organization, represented companies' or constituents') experience pursuing commercial opportunities in the Indo-Pacific.

• Suitability of the representative's position and biography to be able to engage in the conversation.

Anthony Diaz,
Program Analyst, SelectUSA, International Trade Administration, U.S. Department of Commerce.

[FR Doc. 2018-25417 Filed 11-20-18; 8:45 am]

BILLING CODE 3510-FP-P